COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete services previously furnished by such agencies.

Comments Must Be Received on or Before: August 7, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Bag, Urine Collection

NSN: 6530-00-NSH-0029—Medium, enhanced bag, no options

NSN: 6530-00-NSH-0028—Large, enhanced bag, no options

NSN: 6530-00-NSH-0031—Large, w/inlet extension option

NSN: 6530-00-NSH-0037—Medium, w/moleskin option

NSN: 6530-00-NSH-0033—Large, w/moleskin & inlet extension

NSN: 6530-00-NSH-0030—Large, w/moleskin backing option

NSN: 6530-00-NSH-0035—Large, w/inlet & drain extension

NSN: 6530-00-NSH-0032—Large, w/drain extension

NSN: 6530-00-NSH-0039—Medium, w/drain extension

NSN: 6530-00-NSH-0038—Medium, w/inlet extension

NSN: 6530-00-NSH-0034—Large, w/moleskin & drain extension

NSN: 6530-00-NSH-0040—Medium, w/moleskin & inlet extension

NSN: 6530-00-NSH-0041—Medium, w/moleskin & drain extension

NSN: 6530-00-NSH-0042—Medium, w/inlet & drain extension

NSN: 6530-00-NSH-0043—Medium, w/inlet, drain extension & moleskin

NSN: 6530-00-NSH-0036—Large, w/inlet, drain extension & moleskin

NPA: Work, Incorporated, North Quincy, Massachusetts

Contracting Activity: Veterans Affairs National Acquisition Center, Hines, Illinois

Paper, Xerographic

NSN: 7530-01-503-8441—8½″x11″ (For Stockton California Depot Only)

NSN: 7530-01-503-8453—11″ x 17″

NSN: 7530-01-503-8449—8½″ x 14″

NSN: 7530-01-503-8445—8½″ x 11″, 3-hole punched

NPA: Louisiana Association for the Blind, Shreveport, Louisiana

Contracting Activity: Office Supplies & Paper Products Acquisition Center, New York, NY

Services

Service Type/Location: Custodial Services, U.S. Post Office—Brooklyn, 271 Cadman Plaza East, Brooklyn, New York

NPA: NYSARC, Inc., NYC Chapter, New York, New York

Contracting Activity: GSA, Property Management Center, New York, New York.

Service Type/Location: Warehouse Operation, (At the following locations at Fort Hood, Texas): 89th Quartermaster Co Class III, II & 14, 289th Supply Support Activity Map Depot, 13th COSCOM, 289th Supply Support Activity Weapons Warehouse, 13th COSCOM, 602nd Supply Support Activity, 13th COSCOM, 62nd Supply Support Activity Main, Yard 26th III Corp Major End Items Class VII, Fort Hood, Texas

NPA: Professional Contract Services, Inc., Austin, Texas

Contracting Activity: III Corps and Fort Hood Contracting Command, Fort Hood, Texas

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Janitorial/Custodial, Eastman Lake, Madera County, California

NPA: None currently authorized.

Contracting Activity: Department of the Army.

Service Type/Location: Janitorial/Custodial, Lake Mead National Recreation Area, Boulder City, Nevada

NPA: Opportunity Village Association for Retarded Citizens, Las Vegas, Nevada

Contracting Activity: Department of Interior, Reston, Virginia

Service Type/Location: Painting Service, Family Quarters, Fort Sam Houston, Texas

NPA: Goodwill Industries of San Antonio, San Antonio, Texas

Contracting Activity: Department of the Army.

Sheryl D. Kennerly,
Director, Information Management.

[FR Doc. E5-3636 Filed 7-7-05; 8:45 am]

BILLING CODE 6353-01-P